FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201432.

Agreement Name: SSL/NPDL Vessel Sharing Agreement.

Parties: Neptune Pacific Direct Line Pte. Ltd.; Swire Shipping Pte. Ltd.

Filing Party: Conte Cicala; Withers Bergman LLP.

Synopsis: The purpose of this Agreement is to improve the productivity and operating efficiency of the Parties' vessels and equipment and to provide efficient, reliable, and stable liner shipping services through space chartering, coordination of sailings and other activities under this Agreement.

Proposed Effective Date: 08/22/2024.

Location: https://www2.fmc.gov/FMC.Agreements.Web/Public/AgreementHistory/86569.

Agreement No.: 201433.

Agreement Name: CMA CGM/COSCO SHIPPING/OOCL Cooperative Working Agreement Indian Sub-Continent—United States East Coast.

Parties: CMA CGM S.A.; COSCO Shipping Lines Co., Ltd.; Orient Overseas Container Line Limited.

Filing Party: Robert Magovern; Cozen O'Connor.

Synopsis: The Agreement authorizes the Parties to share vessels with one another in the trade between ports in Pakistan and India and the inland and coastal points served by such ports, and ports on the U.S. East Coast and the inland and coastal points served by such ports, utilizing vessels contributed, and independently operated, by the Parties hereto.

Proposed Effective Date: 08/23/2024.

Location: https://www2.fmc.gov/FMC.Agreements.Web/Public/AgreementHistory/86570.

Dated: July 12, 2024.
Alanna Beck,
Federal Register Alternate Liaison Officer.

[FR Doc. 2024-15702 Filed 7-16-24; 8:45 am]

BILLING CODE 6730-02-P